DEPARTMENT OF JUSTICE

Antitrust Division

Notice Pursuant to the National Cooperative Research and Production Act of 1993—National Armaments Consortium

Notice is hereby given that, on October 10, 2023, pursuant to section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances.

Specifically, Altio Labs LLC, Frisco, TX; Amazon Web Services Seattle, WA; Anactisis LLC, Pittsburgh, PA; Applied Technology Solutions, Inc., Huntsville, AL; Castelion Corporation, El Segundo, CA; Concordia Technologies, Inc. Huntsville, AL; Critical Communications, Controls and Instruments, LLC dba C3I, Exeter, NH; Dayton T. Brown, Bohemia, NY; DRS Training & Control Systems, LLC, Fort Walton Beach, FL; E.O. Solutions LLC, Kula, HI; Global Tungsten and Powders Corp., Towanda, PA; Goldbelt Hawk LLC, Newport News, VA; Lightforce USA, Inc. dba Nightforce Optics, Orofino, ID; Lynas USA LLC, San Antonio, TX; MetalTek International, Waukesha, WI; MP Mine Operations LLC, Mountain Pass, CA; Northrop Grumman Advanced Weapons Business Unit (AWBU), Northridge, CA; NWI Defense LLC, Albany, OR; OToole Tek, LLC, Rocky Hill, CT; Poplicus, Inc., Arlington, VA; Powdermet, Inc., Euclid, OH; PR Tactical Corporation Incorporated, Pearland, TX; Royce Geospatial Consultants, Arlington, VA; Safety Management Services, Inc., West Jordan, UT; SCHOTT North America, Duryea, PA; Sentenai Inc., Cambridge, MA; SIG SAUER, Inc., Newington, NH; SPAARK, Inc., Chambersburg, PA; TeraSense, Inc., Baltimore, MD; The Barnes Global Advisors, Sewickley, PA; Triverus, LLC, Palmer, AK; VideoRay, LLC, Pottstown, VA; Winkelmann Flowform Technology, LP, Auburn, AL; and Wyzkyds Consulting, LLC, Tucson, AZ have been added as parties to this venture.

No other changes have been made in either the membership or planned activity of the group research project. Membership in this group research project remains open, and NAC intends to file additional written notifications disclosing all changes in membership.

On May 2, 2000, NAC filed its original notification pursuant to section 6(a) of the Act. The Department of Justice published a notice in the Federal Register pursuant to section 6(b) of the Act on June 30, 2000 (65 FR 40693).

The last notification was filed with the Department on July 7, 2023. A notice was published in the Federal Register pursuant to section 6(b) of the Act on September 26, 2023 (88 FR 66058).

Suzanne Morris,
Deputy Director Civil Enforcement Operations, Antitrust Division.

[FR Doc. 2023-27594 Filed 12-14-23; 8:45 am]

BILLING CODE P